POSTAL SERVICE

39 CFR Part 775

National Environmental Policy Implementing Procedures

AGENCY: Postal Service (USPS).

ACTION: Final rule.

SUMMARY: This rule corrects an oversight in wording in the Postal Service's National Environmental Policy Act (NEPA) regulations concerning procedures and categorical exclusions.

EFFECTIVE DATE: This regulation is effective June 30, 2000.

FOR FURTHER INFORMATION CONTACT: Susan L. Koetting, Attorney, U.S. Postal Service, 475 L'Enfant Plaza, SW, Washington, DC 20260-1135, phone (202) 268-4818.

SUPPLEMENTARY INFORMATION: On August 27, 1998, the Postal Service published in the Federal Register, final regulations on procedures and categorical exclusions regarding NEPA (63 FR 45719). After the publication of the regulations, it was discovered that an error had been made in language in section 775.9(a)(1). Specifically, it was not intended that a written determination not to prepare an environmental assessment be required for all actions. When these regulations were proposed on August 11, 1997 (62 FR 42958), the Postal Service expanded the list of postal activities that were subject to NEPA review and also expanded the list of categorical exclusions. Previous and current internal guidance for facilities programs and projects requires a checklist for all facility actions, while previous and current internal guidance for operational activities only requires a checklist for certain actions that exceed certain higher level financial approval requirements. When these regulations were finalized, internal facilities policy was inadvertently carried over to all activities. This was not intended and is inconsistent with internal guidance and the purpose for establishing categorical exclusions. Postal policy, as discussed in the August 1997 notice, requires a checklist to screen for potential environmental concerns, but it was not intended to do one for all activities, even if categorically excluded.

In a further development, it was recently discovered that a sentence in the regulations was inadvertently dropped during the codification process. In § 775.9(b)(1), the original second sentence in the 1997 version of the published regulations in Title 39, Code of Federal Regulations was dropped out of the version of the regulations published in 1999. The old second sentence was to have become the third sentence in § 775.9(b)(1).

In light of the foregoing, the Postal Service adopts the following minor revisions to its NEPA regulations.

List of Subjects in 39 CFR Part 775

Environmental impact statements.

Accordingly, the Postal Service amends 39 part 775 as follows:

PART 775—NATIONAL ENVIRONMENTAL POLICY ACT PROCEDURES

1. The authority citation for 39 CFR part 775 continues to read as follows:

Authority: 39 U.S.C. 401; 42 U.S.C. 4321 et seq.; 40 CFR 1500.4.

2. Amend § 775.9 by revising the introductory text of paragraph (a)(1) and adding a sentence after the second sentence in paragraph (b)(1) to read as follows:

§ 775.9 Environmental evaluation process.

(a) All actions—(1) Assessment of actions. An environmental checklist may be used to support a record of environmental consideration as the determination that the proposed action does not require an environmental assessment. An environmental assessment must be prepared for each proposed action except that an assessment need not be made if a determination is made that:

* * * * *

(b) Additional requirements for facility actions. (1) * * * An environmental assessment report, however, is not required until the contending project sites have been determined. * * *

Stanley F. Mires,
Chief Counsel, Legislative.

[FR Doc. 00-16674 Filed 6-30-00; 8:45 am]

BILLING CODE 7710-12-U